NATIONAL AERONAUTICS AND SPACE ADMINISTRATION

[Notice (08-084)]

NASA International Space Station Advisory Committee; meeting

AGENCY: National Aeronautics and Space Administration (NASA).

ACTION: Notice of meeting.

SUMMARY: In accordance with the Federal Advisory Committee Act, Public Law 92-463, as amended, the National Aeronautics and Space Administration announces an open meeting of the NASA International Space Station Advisory Committee.

DATES: Thursday, December 4, 2008, 2 p.m. to 3 p.m. Eastern Standard Time.

ADDRESSES: National Aeronautics and Space Administration, 300 E Street, SW., Room 7H45, Washington, DC 20546.

FOR FURTHER INFORMATION CONTACT: Dr. J. Donald Miller, Office of External Relations, (202) 358-1527, National Aeronautics and Space Administration, Washington, DC 20546-0001.

SUPPLEMENTARY INFORMATION: The purpose of the meeting is to assess NASA and Roscosmos plans to support a six-person crew aboard the International Space Station, including transportation, crew rotation, training, and micro meteoroid and orbital debris shielding.

This meeting will be open to the public up to the seating capacity of the room. Five seats will be reserved for members of the press. Attendees will be required to sign a register and to comply with NASA security requirements, including the presentation of a valid picture ID, before receiving an access badge. All attendees will need to provide the following information to receive an access badge: Full name; gender; date/place of birth; citizenship; employer/affiliation information (name of institution, address, county, phone), and title/position. Foreign nationals will need to provide the following additional information: Visa/green card information (number, type, expiration date). To expedite admittance, attendees can provide their identifying information in advance by contacting Dr. Miller via e-mail at j.d.miller@nasa.gov or by telephone at (202) 358-1527 by November 20, 2008. Persons with disabilities who require assistance should indicate this.

It is imperative that the meeting be held on this date to accommodate the scheduling priorities of the key participants.

Dated: October 31, 2008.
P. Diane Rausch,
Advisory Committee Management Officer, National Aeronautics and Space Administration.

[FR Doc. E8-26632 Filed 11-7-08; 8:45 am]

BILLING CODE 7510-13-P